DEPARTMENT OF ENERGY

Federal Energy Regulatory Commission

Notice Regarding Electronic Publication of Orders

June 11, 2001.

Take notice that effective June 25, 2001, the Commission will begin making both Commission and Delegated orders, including orders issued by the administrative law judges, public electronically on a continuous basis on the Commission's Issuance Posting System (CIPS).

Currently the Office of the Secretary regularly posts copies of notices and orders daily at 10:00 a.m., 3:00 p.m. and 4:30 p.m. on bulletin boards outside of the Public Reference Room. Since June 21, 2000, the Commission has made notices public electronically on CIPS on a continuous basis during regular business hours. However, orders are not added to CIPS until after the paper copy is posted on a bulletin board.

In order to provide orders to the public in a more timely manner, effective June 25, 2001, orders will be added to CIPS on a continuous basis during regular business hours instead of awaiting the paper posting times. The Secretary will continue to post paper copies of orders and notices at 10:00 a.m., 3:00 p.m., and 4:30 p.m., or later, and when necessary after 5 p.m. See CFR 385.2007(b)(2000).

David P. Boergers,
Secretary.

[FR Doc. 01-15099 Filed 6-14-01; 8:45 am]

BILLING CODE 6717-01-M